DEPARTMENT OF THE TREASURY

Office of the Secretary

31 CFR Part 1

RIN 1505-AC25

Privacy Act; Implementation

AGENCY: Office of Foreign Assets Control, Departmental Offices, Treasury.

ACTION: Final rule.

SUMMARY: In accordance with the requirements of the Privacy Act of 1974, as amended, the Department of the Treasury is amending its regulations due to the consolidation of the existing Office of Foreign Assets Control (OFAC)-related systems of records by revising the number and title of the Privacy Act system of records for which an exemption has been claimed.

DATES: Effective Date: November 8, 2010.

FOR FURTHER INFORMATION CONTACT: Assistant Director, Disclosure Services, Office of Foreign Assets Control, Department of the Treasury, 1500 Pennsylvania Avenue, NW., Washington, DC 20220, tel.: 202-622-2510 (not a toll free number), or Chief Counsel (Foreign Assets Control), Office of General Counsel, Department of the Treasury, 1500 Pennsylvania Avenue, NW., Washington, DC 20220, tel.: 202-622-2410 (not a toll free number).

SUPPLEMENTARY INFORMATION: Currently, one OFAC-related Privacy Act systems of records, DO .114—Foreign Assets Control Enforcement Records, is exempt from provisions of the Privacy Act pursuant to 5 U.S.C. 552a(k)(2). Under 5 U.S.C. 552a(k)(2), the head of an agency may promulgate rules to exempt a system of records from certain provisions of 5 U.S.C. 552a if the system contains investigatory material compiled for law enforcement purposes. The purpose of the final rule is to revise the number and title of the system of records for which an exemption has been claimed pursuant to 5 U.S.C. 552a(k)(2) as found in paragraph (g)(1)(i) of § 1.36 to read DO .120—Records Related to Office of Foreign Assets Control Economic Sanctions to reflect the proposed revision and consolidation of systems of records, as further discussed below. No new exemptions are being proposed by this document and the revision does not affect the scope of the records for which the exemption pursuant to 5 U.S.C. 552a(k)(2) is claimed.

The action amends § 1.36 by revising the title of the system of records listed in Paragraph (g)(1)(i) from “DO .114—Foreign Assets Control Enforcement Records” to “DO .120—Records Related to Office of Foreign Assets Control Economic Sanctions.”

These regulations are being published as a final rule because the amendments do not impose any requirements on any member of the public and do not result in any change to the scope of the records for which the exemption from provisions of the Privacy Act is claimed pursuant to 5 U.S.C. 552a(k)(2). These amendments are the most efficient means for the Treasury Department to implement its internal requirements for complying with the Privacy Act.

A proposed notice to consolidate three OFAC-related systems of records under the Privacy Act will be published separately in a future issue of the Federal Register. The proposed notice to alter the three systems of records will consolidate the records into the following system of records: Treasury/DO .120—Records Related to Office of Foreign Assets Control Economic Sanctions. This realignment will permit more precise expression of the data elements and will permit the published notices to serve more effectively as guides for the public in understanding how these individually identifiable records are collected, maintained, disclosed, and used.

Pursuant to Executive Order 12866, it has been determined that this final rule is not a significant regulatory action, and therefore, does not require a regulatory impact analysis.

Because no notice of proposed rulemaking is required, the provisions of the Regulatory Flexibility Act, 5 U.S.C. 601-612, do not apply.

List of Subjects in 31 CFR Part 1

Privacy.

Part 1, subpart C of title 31 of the Code of Federal Regulations, is amended as follows:

PART 1—[AMENDED]

1. The authority citation for part 1 continues to read as follows:

Authority: 5 U.S.C. 301 and 31 U.S.C. 321. Subpart A also issued under 5 U.S.C. 552, as amended. Subpart C also issued under 5 U.S.C. 552a, as amended.

2. In § 1.36, paragraph (g)(1)(i) is amended in the table by removing the entry “DO .114—Foreign Assets Control Enforcement Records” and adding in its place “DO .120—Records Related to Office of Foreign Assets Control Economic Sanctions” to read as follows:

§ 1.36 Systems exempt in whole or in part from provisions of 5 U.S.C. 552a and this part.

* * * * *

(g) * * *

(1) * * *

(i) * * *

Number | System name
| * * * * * * *
DO .120 | Records Related to Office of Foreign Assets Control Economic Sanctions.
| * * * * * * *

* * * * *

Dated: July 16, 2010.
Melissa Hartman,
Acting Deputy Assistant Secretary for Privacy, Transparency, and Records.

[FR Doc. 2010-25134 Filed 10-6-10; 8:45 am]

BILLING CODE 4811-45-P